DEPARTMENT OF COMMERCE

International Trade Administration

[C-489-502]

Certain Welded Carbon Steel Pipe and Tube from Turkey: Rescission of Countervailing Duty Administrative Review

AGENCY: Import Administration, International Trade Administration, Department of Commerce.

ACTION: Notice of Rescission of Countervailing Duty Administrative Review.

SUMMARY: On April 24, 2002, in response to a timely request from the respondent (Borusan Boru Birlesik Fabrikalari Mannesmann Boru), the Department of Commerce (the Department) initiated an administrative review of the countervailing duty order on certain welded carbon steel pipe and tube from Turkey. The review covers the period January 1, 2001 through December 31, 2001. See Initiation of Antidumping and Countervailing Duty Administrative Reviews, 67 FR 20089 (April 24, 2002).

In accordance with 19 CFR 351.213(d)(1), the Department is now rescinding this review because the respondent has withdrawn its request for review and no other interested party had requested the review.

EFFECTIVE DATE: June 24, 2002.

FOR FURTHER INFORMATION CONTACT: Stephanie Moore, Office of AD/CVD Enforcement VI, Import Administration, U.S. Department of Commerce, 14th Street and Constitution Avenue, N.W., Washington, D.C. 20230; telephone (202) 482-3692.

SUPPLEMENTARY INFORMATION:

Applicable Statute and Regulations

Unless otherwise indicated, all citations to the statute are references to the provisions effective January 1, 1995, the effective date of the amendments made to the Tariff Act of 1930 (the Act) by the Uruguay Round Agreements Act (URAA). In addition, unless otherwise indicated, all citations to the Department's regulations are to the regulations codified at 19 CFR Part 351.

Background

On March 29, 2002, the Department received a request for an administrative review of the countervailing duty order on certain welded carbon steel pipe and tube from Turkey for the period January 1, 2001 through December 31, 2001. On April 24, 2002, the Department published in the Federal Register (64 FR 67846) a notice of initiation of the antidumping and countervailing duty administrative review on certain welded carbon steel pipe and tube from Turkey with respect to the respondent.

Rescission of Review

On June 4, 2002, the respondent timely withdrew its request for review. The applicable regulation, 19 CFR 351.213(d)(1), states that if a party that requested an administrative review withdraws the request within 90 days of the date of publication of the notice of initiation of the requested review, the Secretary will rescind the review. In this case, the respondent has withdrawn its request for the review within the 90-day period. No other party requested a review and we have received no other submissions regarding the respondent's withdrawal of its request for the review. Therefore, we are rescinding this review of the countervailing duty order on certain welded carbon steel pipe and tube from Turkey covering the period January 1, 2001 through December 31, 2001.

This notice is issued and published in accordance with 19 CFR 351.213(d)(4) and 777(i) of the Act.

DATED: June 14, 2002
Bernard Carreau,
Deputy Assistant Secretary for Import Administration.

[FR Doc. 02-15786 Filed 6-21-02; 8:45 am]

BILLING CODE 3510-DS-S